DEPARTMENT OF DEFENSE

Department of the Air Force

Office of the Secretary of the Air Force Acceptance of Group Application Under Public Law 95-202 and Department of Defense Directive (DODD) 1000.20

SUMMARY: “Honorably Discharged Members of The Gold Coast Native Guard Who Were Civilian Workers Employed From 1942 to August 15, 1945, by the U.S. Army, Headquartered at Then ‘American Camp,’ Now Named ‘Burma Camp,’ Ghana” Under the provisions of Section 401, Public Law 95-202 and DoD Directive 1000.20, the Department of Defense Civilian/Military Service Review Board has accepted an application on behalf of a group known as: “Honorably Discharged Members of The Gold Coast Native Guard Who Were Civilian Workers Employed From 1942 to August 15, 1945, by the U.S. Army, Headquartered at then ‘American Camp,’ Now Named ‘Burma Camp,’ Ghana.”

For More Information: Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Bao-Anh Trinh,
YA-3, DAF, Air Force Federal Register Liaison Officer.

[FR Doc. E9-26401 Filed 11-2-09; 8:45 am]

BILLING CODE 5001-05-P